DEPARTMENT OF THE INTERIOR

National Park Service

[NPS-WASO-NAGPRA-20710; PPWOCRADN0-PCU00RP14.R50000]

Notice of Inventory Completion: U.S. Department of the Interior, National Park Service, Pu`uhonua o Hōnaunau National Historical Park, Hōnaunau, HI

AGENCY: National Park Service, Interior.

ACTION: Notice.

SUMMARY: The U.S. Department of the Interior, National Park Service, Pu`uhonua o Hōnaunau National Historical Park has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to Pu`uhonua o Hōnaunau National Historical Park. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to Pu`uhonua o Hōnaunau National Historical Park at the address in this notice by May 20, 2016.

ADDRESSES: Tammy Duchesne, Superintendent, Pu`uhonua o Hōnaunau National Historical Park, P.O. Box 129, Hōnaunau, HI 97626, telephone (808) 328-2326, email tammy_duchesne@nps.gov.

SUPPLEMENTARY INFORMATION: Notice is here given in accordance with the Native American Graves Protection and Repatriation Act (NAGPRA), 25 U.S.C. 3003, of the completion of an inventory of human remains under the control of the U.S. Department of the Interior, National Park Service, Pu`uhonua o Hōnaunau National Historical Park, Hōnaunau, HI. The human remains were removed from two sites in Hawai`i County, HI.

This notice is published as part of the National Park Service's administrative responsibilities under NAGPRA, 25 U.S.C. 3003(d) (3). The determinations in this notice are the sole responsibility of the Superintendent, Pu`uhonua o Honaunau National Historical Park.

Consultation

A detailed assessment of the human remains was made by Pu`uhonua o Hōnaunau National Historical Park professional staff in consultation with representatives of the Office of Hawaiian Affairs and representatives of the `ohana of Ah Tou, Casuga (Kalohi), Freitas (Moanauli), Galieto (Kelepolo), Kauhaihao (Kelekolio), Keakealani (Maunu), Kekuewa (Moanauli), Lindo, Medeiros (Kalalahua), and Ramos (Kahikina). The Hawaii Island Burial Council was invited to consult but did not participate.

History and Description of the Remains

In 1968, human remains representing, at minimum, two individuals were removed from the Thompson House Lot Site in Hawai`i County, HI. No known individuals were identified. No associated funerary objects are present.

In 1968, human remains representing, at minimum, three individuals were removed from the Beach Site in Hawai`i County, HI. No known individuals were identified. No associated funerary objects are present.

The Thompson House site is composed of traditional Hawaiian habitation features, including no less than four structures likely consisting of a mua (men's house), hale noa (family house), hale kahumu (cooking shelter), and a hale `aina (women's eating house). It has been suggested that the site may have been one of the homes of Kīwala`ō, Kamehameha's adversary, who often resided in Hōnaunau.

The remains from the Beach Site were removed from a buried cultural layer that contained no European material, indicating that they are Native Hawaiian.

Determinations Made by Pu`uhonua o Hōnaunau National Historical Park

Officials of Pu`uhonua o Hōnaunau National Historical Park have determined that:

• Pursuant to 25 U.S.C. 3001(9), the human remains described in this notice represent the physical remains of five individuals of Native American ancestry.

• Pursuant to 25 U.S.C. 3001(2), there is a relationship of shared group identity that can be reasonably traced between the Native American human remains and the `ohana of Ah Tou, Casuga (Kalohi), Freitas (Moanauli), Galieto (Kelepolo), Kauhaihao (Kelekolio), Keakealani (Maunu), Kekuewa (Moanauli), Lindo, Medeiros (Kalalahua), Ramos (Kahikina) and the Office of Hawaiian Affairs.

Additional Requestors and Disposition

Lineal descendants or representatives of any Indian tribe or Native Hawaiian organization not identified in this notice that wish to request transfer of control of these human remains should submit a written request with information in support of the request to Tammy Duchesne, Superintendent, Pu`uhonua o Hōnaunau National Historical Park, P.O. Box 129, Hōnaunau, HI 96726, telephone (808) 328-2326, email tammy_duchesne@nps.gov, by May 20, 2016. After that date, if no additional requestors have come forward, transfer of control of the human remains to the `ohana of Ah Tou, Casuga (Kalohi), Freitas (Moanauli), Galieto (Kelepolo), Kauhaihao (Kelekolio), Keakealani (Maunu), Kekuewa (Moanauli), Lindo, Medeiros (Kalalahua), Ramos (Kahikina), and the Office of Hawaiian Affairs may proceed.

Pu`uohonua o Hōnaunau National Historical Park is responsible for notifying the Office of Hawaiian Affairs; the Hawaii Island Burial Council; and the `ohana of Ah Tou, Casuga (Kalohi), Freitas (Moanauli), Galieto (Kelepolo), Kauhaihao (Kelekolio), Keakealani (Maunu), Kekuewa (Moanauli), Lindo, Medeiros (Kalalahua), and Ramos (Kahikina) that this notice has been published.

Dated: March 24, 2016.
Melanie O'Brien,
Manager, National NAGPRA Program.

[FR Doc. 2016-09129 Filed 4-19-16; 8:45 am]

BILLING CODE 4312-50-P